ENVIRONMENTAL PROTECTION AGENCY

[ER-FRL-6620-9]

Environmental Impact Statements; Notice of Availability

Responsible Agency: Office of Federal Activities, General Information (202) 564-7167 or www.epa.gov/oeca/ofa.

Weekly receipt of Environmental Impact Statements.

Filed August 6, 2001 Through August 10, 2001.

Pursuant to 40 CFR 1506.9.

EIS No. 010299, Final EIS, SFW, CA, Metro Air Park Habitat Conservation Plan, Issuance of an Incidental Take Permit, To Protect, Conserve and Enhance Fish, Wildlife and Plants and their Habitat, Natomas Basin, Sacramento County, CA , Wait Period Ends: September 17, 2001, Contact: Julie Concannon (503) 231-2068.

EIS No. 010300, Draft EIS, FRC, CA, Big Creek No. 4 Hydroelectric Project, Issuing New License, (FERC Project No. 2017), San Joaquin River Basin, Sierra National Forest, Fresno, Madera and Tulare Counties, CA, Comment Period Ends: October 16, 2001, Contact: John Ramer (202) 219-2833.

EIS No. 010301, Draft EIS, FTA, FL, Tampa Rail Project, Transportation Improvements, Light Rail Transit (LRT) or Diesel Multiple Unit (DMU) Vehicles, City of Tampa, Hillsborough County, FL, Comment Period Ends: October 5, 2001, Contact: Derek Robert Scott (404) 562-3524.

EIS No. 010302, Draft EIS, DOE, NM, ID, NV, Technical Area 18 (TA-18) Relocation of Capabilities and Materials at the Los Almos National Laboratory (LANL), Operational Activities Involve Research in and the Design, Development, Construction, and Application of Experiments on Nuclear Criticality, NM, NV and ID, Comment Period Ends: October 5, 2001, Contact: James J. Rose (866) 357-4345.

EIS No. 010303, Draft EIS, AFS, WA, Crystal Mountain Master Development Plan, To Provide Winter and Summer Recreational Use, Special-Use-Permit, Mt. Baker-Snoqualmie National Forest, Silver Creek Watershed, Pierce County, WA, Comment Period Ends: October 16, 2001, Contact: Larry Donovan (425) 744-3403. This document is available on the Internet at: www.fs.fed.us/r6/mbs/.

EIS No. 010304, Final EIS, AFS, OR, Mill Creek Timber Sales and Related Activities, To Implement Ecosystem Management Activities, Prospect Ranger District, Rogue River National Forest, Jackson County, OR, Wait Period Ends: September 17, 2001, Contact: Joel T. King (541) 560-3400.

Amended Notices

EIS No. 010241, Draft EIS, FHW, RI, Sakonnet River Bridge Rehabilitation or Replacement Project, Portsmouth & Tiverton, Newport County, RI , Due: October 5, 2001, Contact: Daniel J. Berman (401) 528-4541. Revision of FR Notice Published on 7/13/2001: CEQ Review Period Ending 9/7/2001 has been Extended to 10/05/2001.

EIS No. 010229, Draft EIS, NOA, CA, San Francisco Bay National Estuarine Research Reserve, Proposes to Designate Three Sites: China Camp State Park, Brown's Island Regional Parks District, and Rush Ranch Open Space Preserve, Contra Costa, Marin and Solano Counties, CA, Due: August 31, 2001, Contact: Nina Garfield (301) 713-3132. Revision of FR Notice Published on 7/13/2001: CEQ Review Period Ending 9/7/2001 to 10/5/2001 has been extended.

Dated: August 14, 2001.
Joseph C. Montgomery,
Director, NEPA Compliance Division, Office of Federal Activities.

[FR Doc. 01-20821 Filed 8-16-01; 8:45 am]

BILLING CODE 6560-50-P